DEPARTMENT OF TRANSPORTATION

Office of the Secretary of Transportation

[DOT Docket No. DOT-OST-2010-0074]

The Future of Aviation Advisory Committee (FAAC) Subcommittee on Environment; Notice of Meeting

AGENCY: U.S. Department of Transportation, Office of the Secretary of Transportation.

ACTION: The Future of Aviation Advisory Committee (FAAC) Environment Subcommittee; notice of meeting.

SUMMARY: The Department of Transportation (DOT), Office of the Secretary of Transportation, announces a meeting of the FAAC Environment Subcommittee, which will be held at the office of The Boeing Company in Arlington, Virginia. This notice announces the date, time, and location of the meeting, which will be open to the public. The purpose of the FAAC is to provide advice and recommendations to the Secretary of Transportation to ensure the competitiveness of the U.S. aviation industry and its capability to manage effectively the evolving transportation needs, challenges, and opportunities of the global economy. The Environment Subcommittee is charged with examining steps and strategies that can be taken by aviation-sector stakeholders and the Federal Government to reduce aviation's environmental footprint and foster sustainability gains in cost-effective ways. This includes consideration of potential approaches to promote effective international actions through the International Civil Aviation Organization.

DATES: The meeting will be held on June 30, 2010, from 9 a.m. to 12 p.m., Eastern Daylight time.

ADDRESSES: The meeting will be held at The Boeing Company, 1200 Wilson Boulevard, Arlington, Virginia, 22209, in Room 816. The meeting location is close to the Rosslyn Metro Station, on the Orange and Blue Lines.

Public Access: The meeting is open to the public. (See below for registration instructions.)

Public Comments: Persons wishing to offer written comments and suggestions concerning the activities of the advisory committee or environment subcommittee should file comments in the Public Docket (Docket Number DOT-OST-2010-0074 at http://www.Regulations.Gov) or alternatively through the FAAC@dot.gov e-mail. If comments and suggestions are intended specifically for the Environment Subcommittee, the term “Environment” should be listed in the subject line of the message. In order to ensure that such comments can be considered by the Subcommittee before its June 30, 2010, meeting, public comments must be filed by 5 p.m. Eastern Daylight time on Monday, June 21, 2010.

SUPPLEMENTARY INFORMATION:

Background

Under section 10(a)(2) of the Federal Advisory Committee Act (5 U.S.C. App. 2), we are giving notice of a meeting of the Environment Subcommittee of the Future of Aviation Advisory Committee taking place on June 30, 2010, from 9 a.m. to 12 p.m., at The Boeing Company, 1200 Wilson Boulevard, Arlington, Virginia, 22209, in Room 816. The agenda includes—

1. Discussion of topics offered by subcommittee members for referral to the full Committee on the subject of meeting the environmental and energy challenges needed to accommodate increases in the demand for air transportation.

2. Establishment of a plan and timeline for further work.

3. Identification of priority issues for the second subcommittee meeting.

Registration

The meeting room can accommodate up to 18 members of the public. Persons desiring to attend must pre-register through e-mail to FAAC@dot.gov. The term “Registration: Environment” should be listed in the subject line of the message and admission will be limited to the first 18 persons to pre-register and receive a confirmation of their pre-registration. All foreign visitors must provide their nationality when registering.

Arrangements to attend by teleconference can be made by contacting the person listed in the FOR FURTHER INFORMATION CONTACT section by 5 p.m. Monday, June 21, 2010. Callers outside the Washington metropolitan area are responsible for paying long-distance charges. Minutes of the meeting will be taken and will be made available to the public.

Requests for Special Accommodation

The DOT is committed to providing equal access to this meeting for all participants. If you need alternative formats or services because of a disability, please send a request to FAAC@dot.gov with the term “Special Accommodations” listed in the subject line of the message by close of business Monday, June 21, 2010.

FOR FURTHER INFORMATION CONTACT: Lynne Pickard, Deputy Director, Office of Environment and Energy, Federal Aviation Administration, 800 Independence Avenue, SW., Washington DC 20591; telephone (202) 267-3577; fax (202) 267-5594; Lynne.Pickard@faa.gov.

Issued in Washington, DC, on June 11, 2010.
Pamela Hamilton-Powell,
Designated Federal Official, Future of Aviation Advisory Committee.

[FR Doc. 2010-14567 Filed 6-16-10; 8:45 am]

BILLING CODE P